DEPARTMENT OF HOUSING AND URBAN DEVELOPMENT

[Docket No. FR-5281-N-95]

Recovery Act Reporting for the Native American Housing Block Grant (NAHBG) Competitive Program

AGENCY: Office of the Chief Information Officer, HUD.

ACTION: Notice.

SUMMARY: The proposed information collection requirement described below has been submitted to the Office of Management and Budget (OMB) for review, as required by the Paperwork Reduction Act. The Department is soliciting public comments on the subject proposal.

Native American Housing Block Grant (NAHBG) funding was appropriated by the American Recovery and Reinvestment Act of 2009 (Recovery Act) to provide Indian tribes or their tribally designated housing entities (TDHEs), eligible to receive funding under the Native American Housing assistance and Self Determination Act (NAHASDA), with economic stimulus funds. The NAHBG provides competitive funding to eligible entities for the development and operation of low-income housing in Indian areas with priority given to projects that will spur construction and rehabilitation and will create employment opportunities for low-income and unemployed persons.

DATES: Comments Due Date: December 21, 2009.

ADDRESSES: Interested persons are invited to submit comments regarding this proposal. Comments should refer to the proposal by name and/or OMB approval Number (2577-0262) and should be sent to: HUD Desk Officer, Office of Management and Budget, New Executive Office Building, Washington, DC 20503; fax: 202-395-5806.

FOR FURTHER INFORMATION CONTACT: Lillian Deitzer, Reports Management Officer, QDAM, Department of Housing and Urban Development, 451 Seventh Street, SW., Washington, DC 20410; e-mail Lillian Deitzer at Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Recovery Act Reporting for the Native American Housing Block Grant (NAHBG) Competitive Program.

OMB Approval Number: 2577-0262.

Form Numbers: SF-425 and HUD 52735-AS.

Description of the Need for the Information and Its Proposed Use: Native American Housing Block Grant (NAHBG) funding was appropriated by the American Recovery and Reinvestment Act of 2009 (Recovery Act) to provide Indian tribes or their tribally designated housing entities (TDHEs), eligible to receive funding under the Native American Housing assistance and Self Determination Act (NAHASDA), with economic stimulus funds. The NAHBG provides competitive funding to eligible entities for the development and operation of low-income housing in Indian areas with priority given to projects that will spur construction and rehabilitation and will create employment opportunities for low-income and unemployed persons.

Frequency of Submission: Quarterly, Other (final report).

| Number of respondents | × | Annual responses | × | Hours per response | = | Burden hours
Reporting Burden | 102 |  | 5 |  | 34 |  | 17,340

Total Estimated Burden Hours: 17,340.

Status: Revision of a currently approved collection.

Authority: Section 3507 of the Paperwork Reduction Act of 1995, 44 U.S.C. 35, as amended.

Dated: November 16, 2009.
Lillian Deitzer,
Departmental Reports Management Officer, Office of the Chief Information Officer.

[FR Doc. E9-27857 Filed 11-18-09; 8:45 am]

BILLING CODE 4210-67-P